DEPARTMENT OF JUSTICE

Notice of Proposed Agreement Pursuant to the Comprehensive Environmental Response, Compensation, and Liability Act

Notice is hereby given of a proposed Prospective Purchaser Agreement and Covenant Not to Sue between the United States on behalf of the U.S. Environmental Protection Agency (“EPA”) and Renaissance Land Associates, LP, and Renaissance Land Associates Acquisition Corporation (hereinafter referred to as “Purchasers”).

The proposed agreement would allow Purchasers to acquire title to approximately 5 acres of land (“the Property”) within the Crater Resources Superfund Site (“Site”) located in King of Prussia, Upper Merion Township, Pennsylvania, without becoming liable under CERCLA (the Comprehensive Environmental Response, Compensation and Liability Act, as amended, 42 U.S.C. 9601 et seq.) for pre-existing contamination at the Site. Purchasers plan to develop the Property for commercial office uses. In consideration of the Agreement, Purchasers will pay the United States $100,000 to be used as partial reimbursement for past response costs incurred at the Site. In addition, Purchasers will conduct any necessary sampling and cleanup of contamination located on the Property.

The Department of Justice will receive, for a period of thirty (30) days from the date of this publication, comments relating to the proposed agreement. Comments should be addressed to the Assistant Attorney General for the Environment and Natural Resources Division, Department of Justice, Washington, DC 20530, and should refer to In the matter of Crater Resources Superfund Site—Agreement and Covenant Not To Sue, Docket Number CERC-PPA-2000-0010, DOJ Ref. #90-11-2-1283.

The proposed Agreement may be examined and copied at the Region III Office of the Environmental Protection Agency, c/o Yvette Hamilton-Taylor, Senior Assistant Regional Counsel, 1650 Arch Street, Philadelphia, PA 19103. A copy of the proposed Agreement may be obtained by mail from the Consent Decree Library, P.O. Box No. 7611, Washington, D.C. 20044. In requesting a copy, please refer to the referenced matter and enclose a check in the amount of $9.25 (25 cents per page reproduction costs), payable to the Consent Decree Library.

Bruce Gelber,
Deputy Chief, Environmental Enforcement Section, Environment and Natural Resources Division.

[FR Doc. 00-25903 Filed 10-6-00; 8:45 am]

BILLING CODE 4410-15-M